FEDERAL COMMUNICATIONS COMMISSION

47 CFR Part 2

[ET Docket No. 03-201; FCC 04-165]

Unlicensed Devices and Equipment Approval

AGENCY: Federal Communications Commission.

ACTION: Final rule; correction.

SUMMARY: On September 7, 2004 (69 FR 54027), the Commission published final rules in the Report and Order, which amended the rules for unlicensed devices and equipment approval. This document contains a correction to § 2.948(a)(2), which was inadvertently published incorrectly.

DATES: Effective October 7, 2004.

FOR FURTHER INFORMATION CONTACT: Neal McNeil, Office of Engineering and Technology, (202) 418-2408, TTY (202) 418-2989, e-mail: Neal.McNeil@fcc.gov.

SUPPLEMENTARY INFORMATION: The Federal Communications Commission published a document amending parts 2 and 15 of the Commission's rules in the Federal Register of September 7, 2004 (69 FR 54027). This document corrects the Federal Register as it appeared.

In FR Doc. 04-19745, published on September 7, 2004 (69 FR 54027), the Commission is correcting § 2.948(a)(2).

PART 2—[CORRECTED]

In rule FR Doc. 04-19745 published on September 7, 2004 (69 FR 54027) make the following correction:

On page 54033, in the third column correct § 2.948(a)(2) to read as follows:

§ 2.948 Description of measurement facilities.

(a) * * *

(2) If the equipment is to be authorized by the Commission under the certification procedure, the description of the measurement facilities shall be filed with the Commission's Laboratory in Columbia, Maryland. The data describing the measurement facilities need only be filed once but must be updated as changes are made to the measurement facilities or as otherwise described in this section. At least every three years, the organization responsible for filing the data with the Commission shall certify that the data on file is current. A laboratory that has been accredited in accordance with paragraph (d) of this section is not required to file a description of its facilities with the Commission's laboratory, provided the accrediting organization (or designating authority in the case of foreign laboratories) submits the following information to the Commission's laboratory:

(i) Laboratory name, location of test site(s), mailing address and contact information;

(ii) Name of accrediting organization;

(iii) Date of expiration of accreditation;

(iv) Designation number;

(v) FCC Registration Number (FRN);

(vi) A statement as to whether or not the laboratory performs testing on a contract basis;

(vii) For laboratories outside the United States, the name of the mutual recognition agreement or arrangement under which the accreditation of the laboratory is recognized.

* * * * *

Federal Communications Commission.
Marlene H. Dortch,
Secretary.

[FR Doc. 04-20906 Filed 9-16-04; 8:45 am]

BILLING CODE 6712-01-P